DEPARTMENT OF EDUCATION

National Advisory Committee on Institutional Quality and Integrity (NACIQI) Meeting

AGENCY: National Advisory Committee on Institutional Quality and Integrity, Office of Postsecondary Education, U.S. Department of Education.

ACTION: Opportunity for the public to make written comments and/or oral comments concerning the NACIQI's report on the reauthorization of the Higher Education Act (HEA).

SUMMARY: This notice invites the public to submit written comments and requests to make oral comments concerning the NACIQI's draft report on the reauthorization of the HEA.

ADDRESSES: U.S. Department of Education, Office of Postsecondary Education, 1990 K Street NW., Room 8060, Washington, DC 20006.

SUPPLEMENTARY INFORMATION: The NACIQI meeting will be held on December 14-16, 2011, from 8:30 a.m. to approximately 5:30 p.m., at the Crowne Plaza Old Town Alexandria, Washington Ballroom, 901 North Fairfax Street, Alexandria, VA 22314.

During the afternoons of December 15 and December 16, 2011, the Committee will consider its report on the reauthorization of the HEA.

Agenda for the Portion of the Meeting Concerning the Committee's Draft Report on the HEA: The portion of the meeting concerning the Committee's draft report will consist of public comments and deliberations concerning the draft report to the Secretary of U.S. Department of Education on the reauthorization of the HEA. The report may be accessed at http://www2.ed.gov/about/bdscomm/list/naciqi-dir/hea-recommendations.doc and http://www2.ed.gov/about/bdscomm/list/naciqi-dir/hea-recommendations.pdf.

Submission of Written Comments Concerning the Committee's Draft Report on the Reauthorization of the HEA: Submitters should provide written comments as a Microsoft Word document that is attached to an electronic mail message (email) or provide comments in the body of an email message. Email messages must be received no later than November 25, 2011, to aslrecordsmanager@ed.gov with the subject line “Written Comments regarding the draft report on the reauthorization of the HEA: Option Letter and/or Number.”

The Department intends to post the submissions on the NACIQI Web site. To help ensure accessibility to all interested parties, we are requesting that all submissions comply with the requirements of Section 508 of the Rehabilitation Act, or be submitted in an electronic format that can be made accessible, such as Microsoft Word. However, we will accept comments in any electronic or written form provided, but comments submitted in other forms, which are inaccessible, will not be posted online. Instead, we will index the inaccessible comments received and make them available upon request. Also, if copyrighted materials are submitted, written permission to post the materials on the U.S. Department of Education's NACIQI Web site must accompany the copyrighted materials.

Only materials submitted by the deadline to the email address listed in this notice, and in accordance with these instructions, become part of the official record concerning the reauthorization of the HEA and are considered by the Department and the NACIQI in their deliberations. Do not send material directly to NACIQI members or to staff.

Instructions for Requests to Make Oral Comments Concerning the Committee's Draft Report on the Reauthorization of the HEA: There are two methods the public may use to make an oral comment concerning the Committee's report on the reauthorization of the HEA.

Method One: Submit a request by email in advance of the meeting to make an oral comment. All individuals or groups submitting an advance request in accordance with this notice will be afforded an opportunity to speak for up to a maximum of three minutes each. Each request must be received no later than November 18, 2011, and must be sent to aslrecordsmanager@ed.gov with the subject line “Oral Comment Request regarding the draft report on the reauthorization of the HEA: Option Letter and/or Number.” Your request (no more than one page maximum) must include:

1. The name, title, affiliation, mailing address, email address, telephone and facsimile numbers, and Web site (if any) of the person/group requesting to speak, and

2. A brief summary of the principal points to be made during the oral presentation.

Do not send material directly to the NACIQI members or staff.

Method Two: Register on December 16, 2011, for an opportunity to comment on the draft report. The requester should provide his or her name, title, affiliation, mailing address, email address, telephone and facsimile numbers, and Web site (if any). The requester should provide the “Option Letter and/or Number” for the item the requester wishes to address. Up to 30 minutes total will be divided among oral commenters who register (in addition to those commenters who signed up in advance). Individuals or groups that register to make oral comments on December 16. 2011, will be selected on a first-come, first-served basis for each issue reviewed. If selected, each commenter may speak from three to five minutes, depending on the number of individuals or groups who registered for an oral presentation opportunity for each issue. The Committee may engage the commenter in discussion afterwards. If a person or group requests to make comments in advance, they cannot sign-up to make comments at the meeting.

Members of the public will be eligible to make oral comments concerning the reauthorization of the HEA only in accordance with these instructions. The oral comments made will become part of the official record and will be considered by the Department and the NACIQI in their deliberations.

Written and Oral Comments Concerning the Agencies/Institutions Scheduled for Review on December 14 and 15, 2011: Two separate Federal Register notices were previously published on August 17, 2011 (76 FR 51014) and [publication date to be determined for the NACIQI Oral Comments notice] that contained the meeting notice and instructions for providing written or oral comments concerning the agencies and the Federal institution scheduled for review.

Access to Records of the Meeting: The Department will record the meeting and post the official report of the meeting on the NACIQI Web site shortly after the meeting. Pursuant to the FACA, the public may also inspect the materials at 1990 K Street NW., Washington, DC, by emailing aslrecordsmanager@ed.gov, or by calling (202) 219-7067 to schedule an appointment.

Reasonable Accommodation: Individuals who will need accommodations for a disability in order to attend the December 14-16, 2011 meeting (i.e., interpreter services, assistive listening devices, and/or materials in alternative format) should contact department staff by telephone: (202) 219-7011; or, email: aslrecordsmanagement@ed.gov, no later than November 21, 2011. We will attempt to meet requests after this date but cannot guarantee the availability of the requested accommodation. The meeting site is accessible.

FOR FURTHER INFORMATION CONTACT: Melissa Lewis, Executive Director, NACIQI, U.S. Department of Education, Room 8060, 1990 K Street, NW., Washington, DC 20006, telephone: (202) 219-7009; email: Melissa.Lewis@ed.gov. Individuals who use a telecommunications device for the deaf (TDD) may call the Federal Information Relay Service at 1 (800) 877-8339, between 8 a.m. and 8 p.m., Eastern Standard Time, Monday through Friday.

NACIQI'S Statutory Authority and Functions: The NACIQI is established under Section 114 of the Higher Education Act (HEA) of 1965, as amended, 20 U.S.C. 1011c. The NACIQI advises the Secretary of Education about:

• The establishment and enforcement of the Criteria for Recognition of accrediting agencies or associations under Subpart 2, Part H, Title IV, HEA, as amended.

• The recognition of specific accrediting agencies or associations, or a specific State approval agency.

• The preparation and publication of the list of nationally recognized accrediting agencies and associations.

• The eligibility and certification process for institutions of higher education under Title IV, HEA.

• The relationship between: (1) Accreditation of institutions of higher education and the certification and eligibility of such institutions, and (2) State licensing responsibilities with respect to such institutions.

• Any other advisory functions relating to accreditation and institutional eligibility that the Secretary may prescribe.

Electronic Access to This Document: The official version of this document is the document published in the Federal Register. Free Internet access to the official edition of the Federal Register and the Code of Federal Regulations is available via the Federal Digital System at http://www.gpo.gov/fdsys. At this site you can view this document, as well as all other document of this Department published in the Federal Register, in text or Adobe Portable Document Format (PDF). To use PDF, you must have Adobe Acrobat Reader, which is available free at this site.

You may also access documents of the Department published in the Federal Register by using the article search feature at: http://www.federalregister.gov. Specifically, through the advanced search feature at this site, you can limit your search to documents published by the Department.

Eduardo M. Ochoa,
Assistant Secretary for Postsecondary Education.

[FR Doc. 2011-28266 Filed 10-31-11; 8:45 am]

BILLING CODE 4000-01-P